DEPARTMENT OF LABOR

Employment and Training Administration

[TA-W-50,606]

Emerson Tool Company, Paris, TN; Notice of Termination of Investigation

Pursuant to section 221 of the Trade Act of 1974, as amended, an investigation was initiated on January 13, 2003 in response to a worker petition filed jointly by the company and the International Association of Machinists, Local 1193, on behalf of workers of Emerson Tool Company, Paris, Tennessee.

The petitioning group of workers is covered by an active certification issued on January 13, 2003, and which remains in effect (TA-W-50,546). Consequently, further investigation in this case would serve no purpose, and the investigation has been terminated.

Signed at Washington, DC, this 8th day of April, 2003.
Richard Church,
Certifying Officer, Division of Trade Adjustment Assistance.

[FR Doc. 03-10141 Filed 4-23-03; 8:45 am]

BILLING CODE 4510-30-P